DEPARTMENT OF TRANSPORTATION

Federal Aviation Administration

14 CFR Part 39

[Docket No. 2000-NM-232-AD; Amendment 39-12386; AD 2001-16-17]

RIN 2120-AA64

Airworthiness Directives; Boeing Model 767-300 Series Airplanes Modified by Supplemental Type Certificate SA5765NM or SA5978NM

AGENCY: Federal Aviation Administration, DOT.

ACTION: Final rule.

SUMMARY: This amendment adopts a new airworthiness directive (AD), applicable to all Boeing Model 767-300 series airplanes modified by supplemental type certificate (STC) SA5765NM or SA5978NM, that requires removal or modification of the in-flight entertainment (IFE) system installed by those STCs. This action is necessary to prevent the inability of the flight crew to remove power from the IFE system when necessary. Inability to remove power from the IFE system during a non-normal or emergency situation could result in inability to control smoke or fumes in the airplane flight deck or cabin. This action is intended to address the identified unsafe condition.

DATES: Effective September 20, 2001.

ADDRESSES: Information related to this amendment may be examined at the Federal Aviation Administration (FAA), Transport Airplane Directorate, Rules Docket, 1601 Lind Avenue, SW., Renton, Washington.

FOR FURTHER INFORMATION CONTACT: Stephen S. Oshiro, Aerospace Engineer, Systems and Equipment Branch, ANM-130S, FAA, Seattle Aircraft Certification Office, 1601 Lind Avenue, SW., Renton, Washington 98055-4056; telephone (425) 227-2793; fax (425) 227-1181.

SUPPLEMENTARY INFORMATION: A proposal to amend part 39 of the Federal Aviation Regulations (14 CFR part 39) to include an airworthiness directive (AD) that is applicable to all Boeing 767-300 series airplanes modified by supplemental type certificate (STC) SA5765NM or SA5978NM was published in the Federal Register on March 2, 2001 (66 FR 13192). That action proposed to require removal of the in-flight entertainment (IFE) system installed by those STCs.

Comments

Interested persons have been afforded an opportunity to participate in the making of this amendment. Due consideration has been given to the single comment received.

Allow Modification of Installed IFE Systems

The commenter questions why the FAA is proposing to require removal of IFE systems installed per STC SA5765NM or SA5978NM rather than modification of the installed systems. The commenter states that a modification that transfers power from the main to the utility power bus, or that installs a master power switch for the IFE system on the video control center, along with appropriate changes to flight crew and cabin crew procedures, would adequately address the identified unsafe condition. The commenter also notes that it operates two Boeing Model 767-300 series airplanes affected by the proposed AD and is contracting with the STC holder for modification of the installed IFE system on these airplanes.

We concur with the commenter's request to allow modification of the subject IFE systems in lieu of removal of these systems. We stated in the proposed rule that the STC holder informed us that IFE systems installed by STC SA5765NM or SA5978NM had been removed from all affected airplanes. Based on the commenter's statements, however, we now know that there are at least two Model 767-300 series airplanes in the worldwide fleet with the subject IFE systems still installed.

The FAA concurs with the commenter that it may be possible to modify the subject IFE systems to adequately address the unsafe condition. Therefore, we have revised paragraph (a) of this AD to provide two options for compliance:

1. Removal of the subject IFE system per a method approved by the FAA (as proposed). Or,

2. Modification of the subject IFE system to provide the flight crew or cabin crew with a means of removing electrical power from the IFE system equipment and wiring during a non-normal or emergency situation involving smoke or fire on the flight deck or in the passenger cabin. Depending on the method of modification, it may also be necessary to revise the Airplane Flight Manual and cabin crew procedures manual to provide the airplane crew with information regarding the use of the power switches or controls installed during the modification. If this compliance option is chosen, the modification and any necessary manual revisions must be done per a method approved by the FAA.

Additionally, we have revised the Cost Impact section of this AD based on the information provided by the commenter, and paragraph (b) of this AD to state that installation of an IFE system per STC SA5765NM or SA5978NM after the effective date of this AD is prohibited unless the modification of the IFE system is done per this AD. Lastly, a new Note 2 has been added (and a subsequent note renumbered) to explain that, as part of the modification, it may be necessary to revise crew procedures.

Conclusion

After careful review of the available data, including the comment noted above, the FAA has determined that air safety and the public interest require the adoption of the rule with the changes previously described. The FAA has determined that these changes will neither increase the economic burden on any operator nor increase the scope of the AD.

Cost Impact

The holder of the STCs previously informed the FAA that the subject IFE systems have been removed from all affected Boeing Model 767-300 series airplanes modified by STC SA5765NM or SA5978NM. However, based on information provided by a commenter to the proposal, we now know that there are at least 2 Model 767-300 series airplanes of the affected design in the worldwide fleet. These airplanes are currently operated by a non-U.S. operator under foreign registry; therefore, they are not directly affected by this AD action. The FAA knows of no airplanes of U.S. registry that will be affected by this AD. Therefore, the FAA expects that there will be no future cost impact on U.S. operators as a result of the adoption of this rule.

If a U.S.-registered airplane subject to this AD is identified, the FAA estimates that removal of the IFE system, which is provided as one option for compliance with this AD, will take approximately 12 work hours per airplane, at an average labor rate of $60 per work hour. Based on these figures, the cost impact of this AD on an affected airplane is estimated to be $720 per airplane.

In lieu of removing the IFE system, this AD provides for modification of the IFE system. Since we have not yet approved any such modification, we do not know what the cost impact would be. However, based on the estimates for modification of another IFE system installed on Model 767-300 series airplanes, if a U.S.-registered airplane subject to this AD is identified, we estimate that it will take approximately 50 work hours per airplane to accomplish the modification, at an average labor rate of $60 per work hour. The cost of required parts is unknown. Based on these figures, we estimate the labor required for such a modification on an affected airplane to be $3,000 per airplane.

The cost impact figures discussed in most AD actions are based on assumptions that no operator has yet accomplished any of the requirements, and that no operator would accomplish those actions in the future if the AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-16-17 Boeing: Amendment 39-12386. Docket 2000-NM-232-AD.

Applicability: Model 767-300 series airplanes modified by supplemental type certificate (STC) SA5765NM or SA5978NM, certificated in any category.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent the inability of flight crew to remove power from the in-flight entertainment (IFE) system when necessary; which, during a non-normal or emergency situation, could result in inability to control smoke or fumes in the airplane flight deck or cabin; accomplish the following:

Removal or Modification of IFE System

(a) Within 18 months after the effective date of this AD, do the actions in either paragraph (a)(1) or (a)(2) of this AD.

(1) Remove the IFE system installed by STC SA5765NM or STC SA5978NM by a method approved by the Manager, Seattle Aircraft Certification Office (ACO), FAA. For a removal method to be approved by the Manager, Seattle ACO, as required by this paragraph, the Manager's approval letter must specifically reference this AD.

(2) Modify the IFE system installed by STC SA5765NM or STC SA5978NM to provide the flight crew or cabin crew with a means of removing electrical power from the IFE system equipment and wiring during a non-normal or emergency situation involving smoke or fire on the flight deck or in the passenger cabin. Do this modification by a method approved by the Manager, Seattle ACO. For a modification to be approved by the Manager, Seattle ACO, as required by this paragraph, the Manager's approval letter must specifically reference this AD.

Note 2: Depending on the method of modification, as part of the requirements of paragraph (a)(2) of this AD, it may be necessary to revise the FAA-approved Airplane Flight Manual and cabin crew procedures to provide the airplane crew with information regarding the use of the power switch or other controls installed during the modification. Such revision to the AFM and cabin crew procedures, if necessary, is considered part of the modification and must be submitted for approval by the Manager, Seattle ACO, along with the method of modification.

Spares

(b) As of the effective date of this AD, no person shall install an IFE system in accordance with STC SA5765NM or SA5978NM on any airplane, unless the IFE system is modified per paragraph (a)(2) of this AD.

Alternative Methods of Compliance

(c) An alternative method of compliance or adjustment of the compliance time that provides an acceptable level of safety may be used if approved by the Manager, Seattle ACO. Operators shall submit their requests through an appropriate FAA Principal Maintenance Inspector, who may add comments and then send it to the Manager, Seattle ACO.

Note 3: Information concerning the existence of approved alternative methods of compliance with this AD, if any, may be obtained from the Seattle ACO.

Special Flight Permits

(d) Special flight permits may be issued in accordance with sections 21.197 and 21.199 of the Federal Aviation Regulations (14 CFR 21.197 and 21.199) to operate the airplane to a location where the requirements of this AD can be accomplished.

Effective Date

(e) This amendment becomes effective on September 20, 2001.

Issued in Renton, Washington, on August 9, 2001.
Vi L. Lipski,
Manager, Transport Airplane Directorate, Aircraft Certification Service.

[FR Doc. 01-20584 Filed 8-15-01; 8:45 am]

BILLING CODE 4910-13-U